Title 3—

The President

Proclamation 8406 of August 31, 2009

National Alcohol and Drug Addiction Recovery Month, 2009

By the President of the United States of America

A Proclamation

Every year, Americans across the country overcome their struggles with addiction. With personal determination and the support of family and friends, community members, and health professionals, they have turned the page on an illness and sought the promise of recovery. On this occasion, we recognize these brave role models and express support for those in treatment, applaud those in recovery, and encourage those in need to seek help.

As a Nation, we must work together to provide access to effective services that reduce substance abuse and promote healthy living. Without effective treatment, abuse of alcohol, illicit drugs, or prescription medications can devastate the mind and body. With treatment, substance use disorders can be managed, giving individuals the effective tools necessary to address their addiction. This year's theme, “Together We Learn, Together We Heal,” calls us to unite and encourage drug-free living. Treatment programs, family members, and neighbors can all help assist those who experience addiction.

During National Alcohol and Drug Addiction Recovery Month, we also pay special tribute to the dedicated professionals and everyday citizens who, with skill and empathy, guide people through the treatment and recovery process. Across America, they are offering a message of hope and understanding. These compassionate individuals remind us that the strength of our character derives not from the mistakes we make, but from our ability to recognize and address them. When we extend a helping hand to those in need, we reaffirm the American spirit and move our Nation towards a brighter tomorrow.

NOW, THEREFORE, I, BARACK OBAMA, President of the United States of America, by the virtue of the authority invested in me by the Constitution and laws of the United States, do hereby proclaim September 2009 as National Alcohol and Drug Addiction Recovery Month. I call upon the people of the United States to observe this month with appropriate programs, ceremonies, and activities.

IN WITNESS WHEREOF, I have hereunto set my hand this thirty-first day of August, in the year of our Lord two thousand nine, and of the Independence of the United States of America the two hundred and thirty-fourth.

[FR Doc. E9-21371

Filed 9-2-09; 8:45 am]

Billing code 3195-W9-P